DEPARTMENT OF TRANSPORTATION

Federal Aviation Administration

Agency Information Collection Activities: Requests for Comments; Clearance of Renewed Approval of Information Collection: Maintenance, Preventive Maintenance, Rebuilding, and Alteration

AGENCY: Federal Aviation Administration (FAA), DOT.

ACTION: Notice and request for comments.

SUMMARY: In accordance with the Paperwork Reduction Act of 1995, FAA invites public comments about our intention to request the Office of Management and Budget (OMB) approval to renew an information collection. The Information to be collected is necessary to insure the safety of the flying public. Documentation of maintenance repair actions record the who, what, when, where and how of the task performed. All maintenance actions as well as documentation are required by Title 14 CFR part 43. This insures proper certification of personnel; proper tooling is utilized and accurate measures to insure safety. FAA reviewed 142,652 form 337s in 2017 with 316,175 aircraft registrations filed in 2017. Each form 337 takes approximately .5 hours.

DATES: Written comments should be submitted by May 29, 2018.

ADDRESSES: Send comments to the FAA at the following address: Barbara Hall, Federal Aviation Administration, ASP-110, 10101 Hillwood Parkway, Fort Worth, TX 76177

FOR FURTHER INFORMATION CONTACT: Barbara Hall by email at: Barbara.L.Hall@faa.gov; phone: 940-594-5913

SUPPLEMENTARY INFORMATION: OMB Control Number: 2120-0020.

Title: Maintenance, Preventive Maintenance, Rebuilding, and Alteration.

Form Numbers: Aircraft maintenance logbooks and form 337.

Type of Review: Renewal of information collection.

Background: Title 14 CFR part 43 mandates information to be provided when an alteration or major repair is performed on an aircraft of United States registry. Submission of Form 337 is required for capture in the aircraft permanent records for current and future owners to substantiate to requirements of the regulations, prior to operation of the aircraft. Aircraft owners have the responsibility of documentation and submission of all maintenance records performed to their aircraft.

Respondents: Aircraft owners.

Frequency: On Occasion of alteration or major repair.

Estimated Average Burden per Response: 30 Minutes/.5 hours.

Estimated Total Annual Burden: Industry Annual burden 29,457 hours.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Fort Worth, TX on March 21, 2018.
Barbara L. Hall,
FAA Information Collection Clearance Officer, Performance, Policy, and Records Management Branch, ASP-110.

[FR Doc. 2018-06264 Filed 3-27-18; 8:45 am]

BILLING CODE 4910-13-P